DEPARTMENT OF HOUSING AND URBAN DEVELOPMENT

[Docket No. FR-4563-N-04]

Notice of Proposed Information Collection for Indian Housing Drug Elimination Program; Notice of Funding Availability

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: June 26, 2000.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4238, Washington, DC 20410-5000.

FOR FURTHER INFORMATION CONTACT: Mildred M. Hamman, (202) 708-3642, extension 4128, for copies of the proposed forms and other available documents. (This is not a toll-free number).

SUPPLEMENTARY INFORMATION: The Department will submit the proposed information collection to OMB for review, as required by the Paperwork Reduction Act of 1995 (44 U.S.C. chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Indian Housing Drug Elimination Program Notice of Funding Availability.

OMB Control Number: 2577-xxxx.

Description of the need for the information and proposed use: The Indian Housing Drug Elimination Program requires eligible tribes and Native American Housing Assistance and Self Determination Act (NAHASDA) recipients (which includes both tribes and tribally designated housing entities (TDHEs) to submit specific information that is necessary if they want to implement security and substance abuse prevention programs in their communities. HUD will select applicants who successfully respond to the five rating factors listed in the NOFA for this competitive funding program.

Agency form numbers, if applicable: None.

Members of affected public: State or Local Government (Indian Tribes and Alaska Native Villages).

Estimation of the total number of hours needed to prepare the information collection including number of respondents, frequency of response, and hours of response: 40 average hours per response, approximately 144 respondents on an annual basis, 5,760 hours for a total reporting burden.

Status of the proposed information collection: New.

Authority: Section 3506 of the Paperwork Reduction Act of 1995, 44 U.S.C. Chapter 35, as amended.

Harold Lucas,
Assistant Secretary for Public and Indian Housing.

[FR Doc. 00-10234 Filed 4-24-00; 8:45 am]

BILLING CODE 4210-33-M